DEPARTMENT OF HEALTH AND HUMAN SERVICES

Centers for Disease Control and Prevention

Statement of Organization, Functions, and Delegations of Authority

Part C (Centers for Disease Control and Prevention) of the statement of Organization, Functions, and Delegations of Authority of the Department of Health and Human Services (45 FR 67772-76, dated October 14, 1980, and corrected at 45 FR 69296, October 20, 1980, as amended most recently at 73 FR 46300-46301, dated August 8, 2008) is amended to reflect the reorganization of the Coordinating Center for Infectious Diseases at the Centers for Disease Control and Prevention.

Section C-B, Organization and Functions, is hereby amended as follows:

Delete in its entirety the functional statement for the Strategic Business Unit (CVA2) and insert the following:

Strategic Business Unit (CVA2). The mission of the Strategic Business Unit (SBU) is to support CCID programs and staff through the efficient, professional, and timely delivery of critical public health mission-support services. In carrying out its mission, the SBU performs the following functions: (1) Provides direct and daily management and execution of domestic travel processing for federal employees, Commissioned Corps, and all CDC-invited guests; (2) provides direct and daily management and execution of the administrative aspects of human resources across CCTD, including training and administration of policies and guidelines developed by the Atlanta Human Resources Center, Department of Health and Human Services (HHS), Ethics Office, Financial Management Office (FMO), Office of Commissioned Corps Personnel, Coordinating Office for Global Health (COGH), Office of Personnel Management, Office of Workforce and Career Development, and Procurement and Grants Office (PGO); (3) provides direct and daily management and execution of the coordination of laboratory and office facilities, and supplies technical guidance and expertise regarding occupancy and facilities management to emergency situations, CDC; (4) provides direct and daily management and execution of the distribution, accountability, and maintenance of CDC property and equipment; (5) provides direct and daily management and execution of micro purchases and procurement requisitions, and performs administrative tasks related to initiating, processing and maintaining interagency agreements; and provides training and administration of policies and procedures developed by PGO and FMO regarding acquisitions; 6) provides direct and daily management and execution of the creation, organization, access, maintenance, and disposition of CCID records, and of the establishment of policies and procedures coordinating a CCID response to Freedom of Information Act (FOIA) requests; and (7) provides direct and daily management and execution of the coordination of logistics for CCID's federal government committee meetings and conferences.

Delete in their entirety the titles and functional statements for the following:

Travel (CVA22), Personnel/Training (CVA23), Procurement/Property/Facilities (CVA24), and Records Management/FOIA/Committee Management/Conference Logistics (CVA25).

Dated: October 8, 2008.
William H. Gimson,
Chief Operating Officer, Centers for Disease Control and Prevention (CDC).

[FR Doc. E8-24812 Filed 10-20-08; 8:45 am]

BILLING CODE 4160-18-M